DEPARTMENT OF TRANSPORTATION

Federal Aviation Administration

14 CFR Part 73

[Docket No. FAA-2010-0077 Airspace Docket No. 10-AWA-4]

RIN 2120-AA66

Amendment of Prohibited Area P-56; District of Columbia

AGENCY: Federal Aviation Administration (FAA), DOT.

ACTION: Final rule; technical amendment.

SUMMARY: This action amends Special Use Airspace Prohibited Area P-56 in the District of Columbia to correct inaccuracies in the description of Area A (P-56A). This amendment does not change the actual geographic position of the prohibited area. The boundary description of Area B (P-56B) is not affected by this action.

DATES: Effective date 0901 UTC, May 5, 2011.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

Background

The present day prohibited area P-56 evolved from several Presidential Executive Orders (E.O.) dating back to the late 1930s. The E.O. established an airspace reservation over a portion of the District of Columbia for national defense, public safety and other governmental purposes.

In October 1966, the airspace reservation then in place (E.O. No. 10126, May 9, 1950) was amended and codified into Title 14, Code of Federal Regulations, part 73, and designated as prohibited area P-56 (31 FR 13422). Currently, P-56 consists of two subareas: A and B. In general, Area A (P-56A) includes the airspace between a point west of the Lincoln Memorial and an area east of the U.S. Capitol Building, and between K Street (on the north side) and a combination of Independence Avenue, 6th Street SW., and the Southwest Freeway (on the south side). Area B (P-56B) consists of that airspace within a one-half mile radius from the center of the U.S. Naval Observatory, located in northwest Washington, DC.

During a recent review of the P-56 legal description, the FAA found that the wording in one part of the description does not match the current District of Columbia street alignment. The area in question is at the western end of P-56A. The current legal description begins at the southwest corner of the Lincoln Memorial, then proceeds northwest to a point at latitude 38°53′45″ N., longitude. 77°03′2″ W. The existing legal description of P-56A states that this point marks the intersection of New Hampshire Avenue and the Rock Creek and Potomac Parkway NW. However, New Hampshire Avenue no longer intersects the Rock Creek and Potomac Parkway. Due to the construction of the John F. Kennedy Center for the Performing Arts, New Hampshire Avenue NW was terminated at F Street, NW. in the 1967 time frame. However, the “New Hampshire Avenue/Rock Creek Parkway intersection” wording has remained in the P-56A description to this day. In spite of this error, the FAA's Aeronautical Products office has the correct location and charting for P-56. This is because the current boundary line that runs from the stated latitude/longitude point on the Rock Creek and Potomac Parkway still extends toward the point where New Hampshire Avenue NW. terminates at F Street, NW. and then proceeds along New Hampshire Avenue to Washington Circle as stated in the current P-56A description.

The FAA is rewording the description of P-56A to replace the reference to the street segment that no longer exists, as described below. This is an administrative change and does not affect the boundaries, designated altitudes, or operating requirements of the airspace; therefore, notice and public procedures under 5 U.S.C. 553(b) are unnecessary.

The Rule

This action amends Title 14 Code of Federal Regulations (14 CFR) part 73 to update the legal description of Prohibited area P-56, District of Columbia. Specifically, the description of a portion of Area A (P-56A) is amended by removing the words “* * * to the intersection of New Hampshire Avenue and Rock Creek and Potomac Parkway, NW. (lat. 38°53′45″ N., long. 77°03′23″ W.); thence northeast along New Hampshire Avenue, 0.6 miles, to Washington Circle, * * *” and inserting the words “* * * to intersect the Rock Creek and Potomac Parkway, NW (at lat. 38°53′45″ N., long. 77°03′23″ W.); thence northeast to the intersection of New Hampshire Avenue NW. and F Street NW. (at lat. 38°53′50″ N., long. 77′03′17″ W.); thence along New Hampshire Avenue NW., 0.4 miles to Washington Circle * * *” (rest of description unchanged). This action will update the regulatory text of P-56 to match the current street alignment in the western part of P-56A to be in concert with the FAA's Aeronautical Products office. The boundary of Area B (P-56B) is not changed by this action and its description remains as currently published.

Section 73.87 of Title 14 CFR part 73 was republished in FAA Order 7400.8T, effective February 16, 2011.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends prohibited airspace in the District of Columbia.

Environmental Review

The FAA has determined that this action qualifies for categorical exclusion under the National Environmental Policy Act in accordance with FAA Order 1050.1E, Environmental Impacts: Policies and Procedures, paragraph 311d. This action is a correction of the technical description of special use airspace that does not alter the dimensions, altitudes, or time of designation of the airspace. Specifically, this action replaces an obsolete street reference in the description. It is not expected to cause any potentially significant environmental impacts, and no extraordinary circumstances exist that warrant preparation of an environmental assessment.

List of Subjects in 14 CFR Part 73

Airspace, Prohibited areas, Restricted areas.

Adoption of Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.87 [Amended]

2. § 73.87 is amended as follows:

* * * * *

P-56 District of Columbia [Amended]

By removing the current boundaries for Area A and substituting the following:

Boundaries

A. Beginning at the southwest corner of the Lincoln Memorial (lat. 38°53′20″ N., long. 77°03′02″ W.); thence via a 327° bearing, 0.6 miles, to intersect the Rock Creek and Potomac Parkway, NW (at lat. 38°53′45″ N., long. 77°03′23″ W.); thence northeast to the intersection of New Hampshire Avenue, NW and F Street, NW (at lat. 38°53′50″ N., long. 77°03′17″ W.); thence along New Hampshire Avenue, NW, 0.4 miles to Washington Circle at the intersection of New Hampshire Avenue and K Street, NW (lat. 38°54′08″ N., long. 77°03′01″ W.); thence east along K Street 2.5 miles to the railroad overpass between First and Second Streets, NE (lat. 38°54′08″ N., long. 77°00′13″ W.); thence southeast via a 158° bearing 0.7 miles, to the southeast corner of Stanton Square, at the intersection of Massachusetts Avenue and Sixth Street, NE (lat. 38°53′35″ N., long. 76°59′56″ W.); thence southwest via a 211° bearing 0.8 miles, to the Capitol Power Plant at the intersection of New Jersey Avenue and E Street, SE (lat. 38°52′59″ N., long. 77°00′24″ W.); thence west via a 265° bearing 0.7 miles, to the intersection of the Southwest Freeway (Interstate Route 395) and Sixth Street, SW extended (lat. 38°52′56″ N., long. 77°01′12″ W.); thence north along Sixth Street 0.4 miles, to the intersection of Sixth Street and Independence Avenue, SW (lat. 38°53′15″ N., long. 77°01′12″ W.); thence west along the north side of Independence Avenue 0.8 miles, to the intersection of Independence Avenue and 15th Street, SW (lat. 38°53′16″ N., long. 77°02′01″ W.); thence west along the southern lane of Independence Avenue 0.4 miles to the west end of the Kutz Memorial Bridge over the Tidal Basin (lat. 38°53′12″ N., long. 77°02′27″ W.); thence west via a 285° bearing 0.6 miles, to the southwest corner of the Lincoln Memorial, to the point of beginning.

* * * * *

Issued in Washington, DC, on February 11, 2011.
Edith V. Parish,
Manager, Airspace, Regulations and ATC Procedures Group.

[FR Doc. 2011-3666 Filed 2-17-11; 8:45 am]

BILLING CODE 4910-13-P